DEPARTMENT OF ENERGY

Federal Energy Regulatory Commission

[Docket No. DI10-11-000]

Clark-Wiltz Mining; Notice of Declaration of Intention and Petition for Relief Filing and Soliciting Comments

June 3, 2010.

Take notice that the following declaration of intention and petition for relief from the requirements of hydropower licensing has been filed with the Commission and is available for public inspection.

a. Type of Filing: Declaration of Intention and Petition for Relief.

b. Project No.: DI10-11-000.

c. Date Filed: March 26, 2010.

d. Applicant: Clark-Wiltz Mining.

e. Name of Project: Ganes Creek Hydrokinetic Pilot Project.

f. Location: The project would be located in Ganes Creek, in Yukon-Koyukuk, Alaska. The project would not occupy federal lands.

g. Filed Pursuant to: 18 CFR Part 24, § 24.1.

h. Applicant Contact: Mr. James Boschma, CEO Boschma Research, Inc., 138 Lawler Drive, Brownsboro, AL 35741, (256) 417-6048.

i. FERC Contact: Kelly Houff at (202) 502-6393, or Kelly.Houff@ferc.gov.

j. Deadline for filing comments: July 6, 2010.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “eFiling” link.

k. Description of Project: Clark-Wiltz Mining intends to deploy and test, for study purposes, a hydrokinetic device that would be located in Ganes Creek. The experimental hydrokinetic device would include: (1) A 1.4-meter-diameter, 9.9-meter-long, 1.4-meter-high, 15 kilowatt (kW) Cycloidal cross-flow turbine; (2) a debris guard and fish screen at the inlet; (3) a flow reduction diffuser, (4) 6 anchor pins that extend into the bedrock approximately 1 meter below the gravel riverbed; (5) anchor cables attached to a bulldozer onshore; (6) a marine cable to connect the hydrokinetic device to the distribution grid at the mining facility; and (7) appurtenant facilities. The hydrokinetic device would convert mechanical power from the river flow into electrical power without constructing a dam, reservoir, penstock, or powerhouse.

l. Petition for Declaration of Intention: Clark-Wiltz Mining asks that it be allowed, without a license under Part I of the Federal Power Act, to deploy, test, and study the type of facilities listed above, and use the power from the test device to supplement the diesel generators currently supplying the dozen buildings and shops at the Ganes Creek Mine. The Ganes Creek Mine is not connected to the interstate grid. Clark-Wiltz Mining would initially test the hydrokinetic device on a short-term basis during the initial 40 days after deployment, and continuously for 60 days before extracting the turbine from the creek before winter in Alaska. The deployment would provide the opportunity to evaluate turbine performance and determine the suitability of operating a hydrokinetic system in the harsh Alaskan mountain environment.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. 2010-14028 Filed 6-10-10; 8:45 am]

BILLING CODE 6717-01-P